DEPARTMENT OF THE INTERIOR

Fish and Wildlife Service

[Docket No. FWS-HQ-IA-2015-0149; FXIA16710900000-167-FF09A30000]

Endangered Species; Wild Bird Conservation; Marine Mammals; Receipt of Applications for Permit

AGENCY: Fish and Wildlife Service, Interior.

ACTION: Notice of receipt of applications for permit.

SUMMARY: We, the U.S. Fish and Wildlife Service, invite the public to comment on the following applications to conduct certain activities with endangered species, marine mammals, or both. With some exceptions, the Endangered Species Act (ESA) and Marine Mammal Protection Act (MMPA) prohibits activities with listed species unless Federal authorization is acquired that allows such activities. The public is also invited to comment on the following applications for approval to conduct certain activities with bird species covered under the Wild Bird Conservation Act of 1992, which was enacted to ensure that exotic bird species are not harmed by international trade and to encourage wild bird conservation programs in countries of origin.

DATES: We must receive comments or requests for documents on or before November 16, 2015. We must receive requests for marine mammal permit public hearings, in writing, at the address shown in the ADDRESSES section by November 16, 2015.

ADDRESSES: Submitting Comments: You may submit comments by one of the following methods:

• Federal eRulemaking Portal: http://www.regulations.gov. Follow the instructions for submitting comments on Docket No. FWS-HQ-IA-2015-0149.

• U.S. mail or hand-delivery: Public Comments Processing, Attn: Docket No. FWS-HQ-IA-2015-0149; U.S. Fish and Wildlife Service Headquarters, MS: BPHC; 5275 Leesburg Pike, Falls Church, VA 22041-3803.

We will post all comments on http://www.regulations.gov. This generally means that we will post any personal information you provide us (see the Public Comments section below for more information).

Viewing Comments: Comments and materials we receive will be available for public inspection on http://www.regulations.gov, or by appointment, between 8 a.m. and 4 p.m., Monday through Friday, except Federal holidays, at the U.S. Fish and Wildlife Service, Division of Management Authority, 5275 Leesburg Pike, Falls Church, VA 22041-3803; telephone 703-358-2095.

FOR FURTHER INFORMATION CONTACT: Endangered Species Applications: Brenda Tapia, Program Analyst/Data Administrator, Division of Management Authority, U.S. Fish and Wildlife Service Headquarters, MS: IA; 5275 Leesburg Pike, Falls Church, VA 22041-3803; telephone 703-358-2104; facsimile 703-358-2280.

Wild Bird Conservation Act Applications: Craig Hoover, Chief, Division of Management Authority, U.S. Fish and Wildlife Service Headquarters, MS: IA; 5275 Leesburg Pike, Falls Church, VA 22041-3803; telephone 703-358-2095; facsimile 703-358-2298. If you use a telecommunications device for the deaf (TDD), call the Federal Information Relay Service (FIRS) at 800-877-8339.

SUPPLEMENTARY INFORMATION:

I. Public Comment Procedures

A. How do I request copies of applications or comment on submitted applications?

Send your request for copies of applications or comments and materials concerning any of the applications to the contact listed under ADDRESSES. Please include the Federal Register notice publication date, the PRT-number, and the name of the applicant in your request or submission. We will not consider requests or comments sent to an email or address not listed under ADDRESSES. If you provide an email address in your request for copies of applications, we will attempt to respond to your request electronically.

Please make your requests or comments as specific as possible. Please confine your comments to issues for which we seek comments in this notice, and explain the basis for your comments. Include sufficient information with your comments to allow us to authenticate any scientific or commercial data you include.

The comments and recommendations that will be most useful and likely to influence agency decisions are: (1) Those supported by quantitative information or studies; and (2) Those that include citations to, and analyses of, the applicable laws and regulations. We will not consider or include in our administrative record comments we receive after the close of the comment period (see DATES) or comments delivered to an address other than those listed above (see ADDRESSES).

B. May I review comments submitted by others?

Comments, including names and street addresses of respondents, will be available for public review at the street address listed under ADDRESSES. The public may review documents and other information applicants have sent in support of the application unless our allowing viewing would violate the Privacy Act or Freedom of Information Act. Before including your address, phone number, email address, or other personal identifying information in your comment, you should be aware that your entire comment—including your personal identifying information—may be made publicly available at any time. While you can ask us in your comment to withhold your personal identifying information from public review, we cannot guarantee that we will be able to do so.

II. Background

To help us carry out our conservation responsibilities for affected species, and in consideration of section 10(a)(1)(A) of the Endangered Species Act of 1973, as amended (16 U.S.C. 1531 et seq.), and the Marine Mammal Protection Act of 1972, as amended (16 U.S.C. 1361 et seq.), along with Executive Order 13576, “Delivering an Efficient, Effective, and Accountable Government,” and the President's Memorandum for the Heads of Executive Departments and Agencies of January 21, 2009—Transparency and Open Government (74 FR 4685; January 26, 2009), which call on all Federal agencies to promote openness and transparency in Government by disclosing information to the public, we invite public comment on these permit applications before final action is taken. Under the MMPA, you may request a hearing on any MMPA application received. If you request a hearing, give specific reasons why a hearing would be appropriate. The holding of such a hearing is at the discretion of the Service Director.

III. Permit Applications

A. Endangered Species

Applicant: The Wild Animal Sanctuary, Keenesburg, CO; PRT-59839B

The applicant requests a permit to import seven captive-bred tigers (Panthera tigris), two captive-bred jaguars (Panthera onca), and one captive-bred leopard (Panthera pardus) for the purpose of enhancement of the survival of the species. This notification covers activities to be conducted by the applicant over a 1-year period.

Applicant: Brady Champion Ranch, LLC, Rochelle, TX; PRT-51308B

On July 23, 2015, we published a Federal Register notice inviting the public to comment on an application for a permit to conduct certain activities with endangered species (80 FR 43790). We made any error by omitting one species in the Brady Champion Ranch application, which starts at the upper right in column 3 on page 43791. The omitted species is Arabian oryx (Oryx leucoryx). All the other information we printed was correct. With this notice, we correct that error and reopen the comment period for PRT-51308B. The correct entry for this application is as follows: The applicant requests a permit authorizing interstate and foreign commerce, export, and cull of excess Barasingha (Rucervus duvaucelii), Eld's deer (Rucervus eldii), Arabian oryx (Oryx leucoryx), and Red lechwe (Kobus lechwe) from the captive herd maintained at their facility, for the purpose of enhancement of the survival of the species. This notification covers activities to be conducted by the applicant over a 5-year period.

Applicant: U.S. Fish and Wildlife Service, Mexican Wolf Reintroduction Project, Region 2, Albuquerque, NM; PRT-001904

The applicant requests renewal of a permit to import live Mexican or lobo wolves (Canis lupus baileyi) for breeding and reintroduction, as well as the import of biological samples for genetic studies, for the purpose of enhancement of the survival of the species and scientific research. This notification covers activities to be conducted by the applicant over a 5-year period.

Applicant: Abilene Zoological Gardens, Abilene, TX; PRT-66556B

The applicant requests a permit to export one captive-bred maned wolf (Chrysocyon brachyurus) for the purpose of enhancement of the survival of the species. This notification covers activities to be conducted by the applicant over a 1-year period.

Applicant: St. Catherines Island Foundation, Midway, GA; PRT 77387B

The applicant requests a permit to export 10 male captive-born ring-tailed lemurs (Lemur catta) to the Australia Zoo, Queensland, Australia, for the purpose of enhancement of the survival of the species.

Applicant: Yerkes National Primate Research Center, Atlanta, GA; PRT-69024B

The applicant requests a permit to export two male and six female captive-bred chimpanzees (Pan troglodytes) to Wingham Wildlife Park, Wingham, United Kingdom, for the purpose of enhancement of the survival of the species.

Applicant: Cheadle Center for Biodiversity and Ecological Restoration, Santa Barbara, CA; PRT-74563B

The applicant requests a permit to import biological samples from wild African wild dog (Lycaon pictus) for the purpose of scientific research. This notification covers activities to be conducted by the applicant over a 5-year period.

Multiple Applicants

The following applicants each request a permit to import the sport-hunted trophy of one male bontebok (Damaliscus pygargus pygargus) culled from a captive herd maintained under the management program of the Republic of South Africa, for the purpose of enhancement of the survival of the species.

Applicant: Donald Meyer, San Antonio, TX; PRT-73590B

Applicant: Arthur Gutierrez, Weston, MA; PRT-71490B

Applicant: Christopher Gannon, Jupiter, FL; PRT-76689B

Applicant: Joshua Braun, Calhoun, MO; PRT-76169B

Applicant: Michael Long, Sterling City, TX; PRT-78222B

B. Wild Bird Conservation Act

Applicant: Marelina Salmones, Plano, TX

The applicant wishes to establish a cooperative breeding program for the following: Grey-headed lovebird (Agapornis canus), Fischer's lovebird (Agapornis fischeri), Lilian's lovebird (Agapornis lilianae), black-cheeked lovebird (Agapornis nigrigenis), red-headed lovebird (Agapornis pullarius), black-collared lovebird (Agapornis swindernianus), black-winged lovebird (Agapornis taranta), and masked lovebird (Agapornis personatus). The applicant wishes to be an active participant in this program along with four other individuals.

If approved, the program will be overseen by the South Florida Lovebird Breeders Association, affiliated with Agapornis Breeders & Exhibitors, Plano, Texas.

C. Endangered Marine Mammals and Marine Mammals

Applicant: John Downer Productions Ltd., Bristol, England; PRT-68000B

The applicant requests a permit to photograph northern sea otters (Enhydra lutris kenyoni) in Alaska for commercial and educational purposes. This notification covers activities to be conducted by the applicant for less than a 1-year period.

Applicant: U.S. Geological Survey—Biological Resources Division, Santa Cruz Field Station, Santa Cruz, CA; PRT-672624

The applicant requests an amendment of the permit to take southern sea otter (Enhydra lutris nereis) in the wild to include studies on the foraging behaviors of the species for the purpose of scientific research. This notification covers activities to be conducted by the applicant for the remainder of the validity of the permit.

Applicant: Monterey Bay Aquarium, Monterey, CA; PRT-186914

The applicant requests an amendment of the permit to take up to 6 wild, captive-held southern sea otter (Enhydra lutris nereis) that are being held for rehabilitation/release or are considered non-releasable, to investigate the use of an alternative life-history tag for the purpose of scientific research. This notification covers activities to be conducted by the applicant for the remainder of the validity of the permit.

Concurrent with publishing this notice in the Federal Register, we are forwarding copies of the above applications to the Marine Mammal Commission and the Committee of Scientific Advisors for their review.

Brenda Tapia,
Program Analyst/Data Administrator, Branch of Permits, Division of Management Authority.

[FR Doc. 2015-26266 Filed 10-14-15; 8:45 am]

BILLING CODE 4333-15-P